DEPARTMENT OF HOMELAND SECURITY

Coast Guard

33 CFR Parts 100, 117, 147, and 165

[USCG-2009-1039]

Quarterly Listings; Safety Zones, Security Zones, Special Local Regulations, and Drawbridge Operation Regulations; Correction

AGENCY: Coast Guard, DHS.

ACTION: Notice of expired temporary rules issued; correction.

SUMMARY: The U.S. Coast Guard published a notice in the Federal Register on November 27, 2009 (74 FR 62239), providing required notice of substantive rules issued by the Coast Guard and temporarily effective between March 2005 and November 2008, that expired before they could be published in the Federal Register. That notice inadvertently listed incorrect documents numbers in its table. This document corrects the table by replacing the notice in its entirety.

DATES: This document becomes effective December 23, 2009. This document lists temporary Coast Guard rules between March 26, 2005 and November 29, 2008 that became effective and were terminated before they could be published in the Federal Register.

ADDRESSES: The Docket Management Facility maintains the public docket for this notice. Documents indicated in this notice will be available for inspection or copying at the Docket Management Facility (M-30), U.S. Department of Transportation, West Building ground floor, room W12-140, 1200 New Jersey Avenue, SE., Washington, DC 20590 between 9 a.m. and 5 p.m., Monday through Friday, except federal holidays.

FOR FURTHER INFORMATION CONTACT: For questions on this notice contact Yeoman First Class Denise Johnson, Office of Regulations and Administrative Law, telephone (202) 372-3862. For questions on viewing, or on submitting material to the docket, contact Ms. Angie Ames, Docket Operations, telephone 202-366-5115.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Drawbridge operation regulations authorize changes to drawbridge schedules to accommodate bridge repairs, seasonal vessel traffic, and local public events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these safety zones, security zones, special local regulations, regulated navigation areas or drawbridge operation regulations by Coast Guard officials' on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated. The temporary rules listed in this notice have been exempted from review under Executive Order 12666, Regulatory Planning and Review, because of their emergency nature, or limited scope and temporary effectiveness.

The following unpublished rules were placed in effect temporarily during the period between March 2005 and November 2008 unless otherwise indicated.

Dated: December 16, 2009.
S.G. Venckus,
Chief, Office of Regulations and Administrative Law.

2nd Quarter 2008 Listing
Docket No. | Location | Type | Effective date
CGD08-06-017 | Illinois Waterway, IL | Drawbridge Operation Regulation (Part 117) | 4/24/2006
CGD09-06-115 | Frankfort, MI | Safety Zones (Parts 147 and 165) | 9/2/2007
CGD09-07-020 | Algonac, MI | Safety Zones (Parts 147 and 165) | 6/2/2007
CGD09-07-026 | Toledo, OH | Safety Zones (Parts 147 and 165) | 5/24/2007
CGD09-07-031 | Detroit, MI | Safety Zones (Parts 147 and 165) | 7/21/2007
CGD09-07-033 | Milwaukee, WI | Safety Zones (Parts 147 and 165) | 6/5/2007
CGD09-07-051 | Paradise, MI | Safety Zones (Parts 147 and 165) | 7/4/2007
CGD09-07-054 | Put In Bay, OH | Safety Zones (Parts 147 and 165) | 7/4/2007
CGD09-07-057 | Cedarville, MI | Safety Zones (Parts 147 and 165) | 7/4/2007
CGD09-07-058 | Munising, MI | Safety Zones (Parts 147 and 165) | 7/4/2007
CGD09-07-059 | Sault Ste. Marie, MI | Safety Zones (Parts 147 and 165) | 7/4/2007
CGD09-07-067 | Detroit, MI | Safety Zones (Parts 147 and 165) | 7/4/2007
CGD09-07-072 | AuGres, MI | Safety Zones (Parts 147 and 165) | 7/1/2007
CGD09-07-074 | Alpena, MI | Safety Zones (Parts 147 and 165) | 7/4/2007
CGD09-07-076 | Marquette, MI | Safety Zones (Parts 147 and 165) | 7/5/2007
CGD09-07-077 | Bay Village, OH | Safety Zones (Parts 147 and 165) | 7/22/2007
CGD09-07-081 | Harrisville, MI | Safety Zones (Parts 147 and 165) | 7/7/2007
CGD09-07-083 | Lorain, OH | Safety Zones (Parts 147 and 165) | 7/8/2007
CGD09-07-085 | Cleveland, OH | Safety Zones (Parts 147 and 165) | 7/14/2007
CGD09-07-087 | Grosse Pointe Park, MI | Safety Zones (Parts 147 and 165) | 7/7/2007
CGD09-07-089 | Port Huron, MI | Safety Zones (Parts 147 and 165) | 7/11/2007
CGD09-07-090 | Tonawanda, NY | Safety Zones (Parts 147 and 165) | 7/22/2007
CGD09-07-091 | Detroit, MI | Safety Zones (Parts 147 and 165) | 7/13/2007
CGD09-07-092 | Harbor Beach, MI | Safety Zones (Parts 147 and 165) | 7/14/2007
CGD09-07-093 | Marinette, WI | Safety Zones (Parts 147 and 165) | 7/20/2007
CGD09-07-094 | Oswego, NY | Safety Zones (Parts 147 and 165) | 7/25/2007
CGD09-07-095 | Cleveland, OH | Safety Zones (Parts 147 and 165) | 7/28/2007
CGD09-07-097 | Trenton, MI | Safety Zones (Parts 147 and 165) | 7/21/2007
CGD09-07-098 | Trenton, MI | Safety Zones (Parts 147 and 165) | 7/20/2007
CGD09-07-100 | St. Clair, MI | Safety Zones (Parts 147 and 165) | 7/27/2007
CGD09-07-101 | Sault Ste. Marie, MI | Safety Zones (Parts 147 and 165) | 7/28/2007
CGD09-07-103 | Baldwinsville, NY | Safety Zones (Parts 147 and 165) | 9/15/2007
CGD09-07-106 | Erie, PA | Safety Zones (Parts 147 and 165) | 8/10/2007
CGD09-07-114 | Detroit, MI | Safety Zones (Parts 147 and 165) | 9/1/2007
CGD09-07-117 | Detroit, MI | Safety Zones (Parts 147 and 165) | 8/31/2007
CGD09-07-118 | Cleveland, OH | Safety Zones (Parts 147 and 165) | 9/1/2007
CGD09-07-119 | Chicago, IL | Safety Zones (Parts 147 and 165) | 5/15/2007
CGD09-07-121 | Cleveland, OH | Safety Zones (Parts 147 and 165) | 9/8/2007
CGD11-06-004 | San Francisco Bay, CA | Special Local Regulation (Parts 100) | 7/21/2007
CGD11-06-007 | San Francisco Bay, CA | Special Local Regulation (Parts 100) | 5/26/2006
CGD11-06-009 | San Francisco, CA | Drawbridge Operation Regulation (Part 117) | 7/30/2007
CGD11-06-044 | Knights Landing, CA | Drawbridge Operation Regulation (Part 117) | 11/29/2007
CGD11-08-001 | San Francisco, CA | Drawbridge Operation Regulation (Part 117) | 1/26/2008
CGD13-06-021 | Seattle, WA | Safety Zones (Parts 147 and 165) | 5/6/2006
CGD13-06-022 | Portland, OR | Safety Zones (Parts 147 and 165) | 5/12/2006
CGD13-06-024 | Olympia, WA | Security zones (Part 165) | 5/28/2006
CGD13-06-032 | Tacoma, WA | Safety Zones (Parts 147 and 165) | 7/2/2006
CGD13-06-033 | Tacoma, WA | Safety Zones (Parts 147 and 165) | 7/4/2006
CGD13-06-035 | Warrenton, OR | Safety Zones (Parts 147 and 165) | 7/14/2006
CGD13-06-039 | Dyes Inlet, WA | Safety Zones (Parts 147 and 165) | 8/19/2006
CGD13-06-040 | Duwamish River, WA | Safety Zones (Parts 147 and 165) | 8/16/2006
CGD13-06-055 | Portland, OR | Safety Zones (Parts 147 and 165) | 12/14/2006
CGD13-06-056 | Puget Sound, WA | Safety Zones (Parts 147 and 165) | 12/14/2006
CGD13-07-018 | Olympia, WA | Safety Zones (Parts 147 and 165) | 5/31/2007
CGD13-07-024 | Lake Washington, WA | Safety Zones (Parts 147 and 165) | 8/4/2007
CGD13-07-026 | Lake Washington, WA | Special Local Regulation (Parts 100) | 8/2/2007
CGD13-07-027 | Seattle, WA | Safety Zones (Parts 147 and 165) | 8/1/2007
CGD13-07-039 | Portland, OR | Safety Zones (Parts 147 and 165) | 10/7/2007
CGD13-07-057 | Portland, OR | Safety Zones (Parts 147 and 165) | 12/27/2007
CGD13-08-008 | Portland, OR | Safety Zones (Parts 147 and 165) | 1/24/2008
CGD13-08-009 | Puget Sound, WA | Security zones (Part 165) | 1/25/2008
CGD13-08-012 | Portland, OR | Safety Zones (Parts 147 and 165) | 2/5/2008
CGD13-08-014 | Seattle, WA | Security zones (Part 165) | 8/1/2008
CGD13-08-015 | Elliott Bay, WA | Security zones (Part 165) | 2/7/2008
CGD13-08-016 | Tillamook Bay, OR | Safety Zones (Parts 147 and 165) | 2/8/2008
COTP Charleston 06-008 | Charleston, SC | Safety Zones (Parts 147 and 165) | 1/13/2006
COTP Charleston 06-025 | Charleston, SC | Safety Zones (Parts 147 and 165) | 2/15/2006
COTP Charleston 06-054 | Charleston, SC | Safety Zones (Parts 147 and 165) | 5/6/2006
COTP Charleston 06-085 | Mount Pleasant, SC | Security zones (Part 165) | 5/4/2006
COTP Guam 06-002 | Apra Harbor, GU | Safety Zones (Parts 147 and 165) | 2/8/2006
COTP Guam 06-007 | Philippine Sea, GU | Safety Zones (Parts 147 and 165) | 4/22/2006
COTP Honolulu 06-006 | Honolulu, HI | Security zones (Part 165) | 10/6/2006
COTP Jacksonville 06-075 | Fernandina Beach, FL | Safety Zones (Parts 147 and 165) | 5/5/2006
COTP Jacksonville 06-076 | Palatka, FL | Safety Zones (Parts 147 and 165) | 5/26/2006
COTP Jacksonville 06-077 | Augustine, FL | Safety Zones (Parts 147 and 165) | 5/28/2006
COTP Jacksonville 06-102 | Jacksonville, FL | Safety Zones (Parts 147 and 165) | 7/22/2006
COTP Jacksonville 06-117 | Green Cove Springs, FL | Safety Zones (Parts 147 and 165) | 5/29/2006
COTP Jacksonville 06-225 | Kissimmee, FL | Safety Zones (Parts 147 and 165) | 12/9/2006
COTP Jacksonville 06-229 | Merritt Island, FL | Safety Zones (Parts 147 and 165) | 12/1/2006
COTP Jacksonville 06-258 | Jacksonville, FL | Safety Zones (Parts 147 and 165) | 11/25/2006
COTP Miami 06-202 | Broward, FL | Special Local Regulation (Parts 100) | 12/17/2006
COTP Miami 07-002 | Miami, FL | Security zones (Part 165) | 2/2/2007
COTP Miami 07-016 | Miami, FL | Safety Zones (Parts 147 and 165) | 1/25/2007
COTP Miami 07-018 | Miami, FL | Safety Zones (Parts 147 and 165) | 1/25/2007
COTP Miami 07-025 | Fort Lauderdale, FL | Safety Zones (Parts 147 and 165) | 2/9/2007
COTP Miami 07-033 | Miami, FL | Safety Zones (Parts 147 and 165) | 4/28/2007
COTP Miami 07-042 | Fort Pierce, FL | Safety Zones (Parts 147 and 165) | 3/14/2007
COTP Miami 07-042 | Fort Pierce, FL | Safety Zones (Parts 147 and 165) | 3/14/2007
COTP Miami 07-049 | Fort Lauderdale, FL | Safety Zones (Parts 147 and 165) | 3/9/2007
COTP Miami 07-064 | Fort Lauderdale, FL | Safety Zones (Parts 147 and 165) | 5/19/2007
COTP Miami 07-071 | Golden Beach, FL | Safety Zones (Parts 147 and 165) | 3/26/2007
COTP Miami 07-080 | West Palm Beach, FL | Safety Zones (Parts 147 and 165) | 5/6/2007
COTP Miami 07-088 | Miami Beach, FL | Safety Zones (Parts 147 and 165) | 4/18/2007
COTP Miami 07-096 | Port Everglades, FL | Security zones (Part 165) | 4/30/2007
COTP Miami 07-097 | Fort Pierce, FL | Safety Zones (Parts 147 and 165) | 5/7/2007
COTP Miami 07-099 | Miami, FL | Safety Zones (Parts 147 and 165) | 4/29/2007
COTP Miami 07-101 | Miami, FL | Safety Zones (Parts 147 and 165) | 4/21/2007
COTP Miami 07-105 | Fort Lauderdale, FL | Safety Zones (Parts 147 and 165) | 5/7/2007
COTP Miami 07-106 | Miami, FL | Safety Zones (Parts 147 and 165) | 5/7/2007
COTP Miami 07-113 | Miami, FL | Safety Zones (Parts 147 and 165) | 7/4/2007
COTP Miami 07-118 | Fort Pierce, FL | Safety Zones (Parts 147 and 165) | 6/4/2007
COTP Miami 07-119 | Miami, FL | Security zones (Part 165) | 6/10/2007
COTP Miami 07-124 | Miami, FL | Safety Zones (Parts 147 and 165) | 6/2/2007
COTP Miami 07-135 | Fort Lauderdale, FL | Safety Zones (Parts 147 and 165) | 6/1/2007
COTP Miami 07-176 | Fort Lauderdale, FL | Safety Zones (Parts 147 and 165) | 7/18/2007
COTP Mobile-05-051 | Mobile, AL | Safety Zones (Parts 147 and 165) | 5/23/2006
COTP Mobile-06-001 | Destin, FL | Safety Zones (Parts 147 and 165) | 4/7/2006
COTP Mobile-06-003 | Panama City, FL | Safety Zones (Parts 147 and 165) | 8/20/2006
COTP Mobile-06-004 | Pensacola, FL | Safety Zones (Parts 147 and 165) | 3/22/2006
COTP Mobile-06-005 | Pensacola, FL | Safety Zones (Parts 147 and 165) | 3/19/2006
COTP Mobile-06-006 | Biloxi, MS | Safety Zones (Parts 147 and 165) | 3/6/2006
COTP Mobile-06-007 | Mobile, AL | Safety Zones (Parts 147 and 165) | 3/6/2006
COTP Mobile-06-008 | Pensacola, FL | Safety Zones (Parts 147 and 165) | 3/7/2006
COTP Mobile-06-014 | Mobile, AL | Safety Zones (Parts 147 and 165) | 5/23/2006
COTP Mobile-06-016 | Mobile, AL | Safety Zones (Parts 147 and 165) | 6/10/2006
COTP Mobile-06-017 | Panama City, FL | Safety Zones (Parts 147 and 165) | 7/4/2006
COTP Mobile-06-018 | Panama City, FL | Safety Zones (Parts 147 and 165) | 6/12/2006
COTP Mobile-06-020 | Demopolis, AL | Safety Zones (Parts 147 and 165) | 7/14/2006
COTP Mobile-06-021 | Pensacola, FL | Safety Zones (Parts 147 and 165) | 7/4/2006
COTP Mobile-06-022 | Orange Beach, AL | Safety Zones (Parts 147 and 165) | 8/19/2006
COTP Mobile-06-023 | Gulfport, MS | Safety Zones (Parts 147 and 165) | 7/19/2006
COTP Mobile-06-024 | Destin, FL | Safety Zones (Parts 147 and 165) | 11/14/2006
COTP Mobile-06-025 | St. Louis, MS | Safety Zones (Parts 147 and 165) | 8/14/2006
COTP Mobile-06-027 | Walton Beach, FL | Safety Zones (Parts 147 and 165) | 9/21/2006
COTP Mobile-06-028 | Pascagoula, MS | Safety Zones (Parts 147 and 165) | 9/19/2006
COTP Mobile-06-029 | Pascagoula, MS | Safety Zones (Parts 147 and 165) | 9/22/2006
COTP Mobile-06-030 | Panama City, FL | Safety Zones (Parts 147 and 165) | 10/28/2006
COTP Mobile-06-031 | Mobile, AL | Safety Zones (Parts 147 and 165) | 10/21/2006
COTP Mobile-06-032 | Pensacola, FL | Security zones (Part 165) | 11/9/2006
COTP Mobile-07-010 | Pensacola Bay, FL | Safety Zones (Parts 147 and 165) | 3/12/2007
COTP Mobile-07-011 | Pensacola Bay, FL | Safety Zones (Parts 147 and 165) | 3/14/2007
COTP Mobile-07-015 | Pascagoula, MS | Safety Zones (Parts 147 and 165) | 4/18/2007
COTP Mobile-07-016 | Santa Rosa Island, FL | Safety Zones (Parts 147 and 165) | 5/30/2007
COTP Mobile-07-017 | Pensacola Beach, FL | Safety Zones (Parts 147 and 165) | 7/4/2007
COTP Mobile-07-020 | Biloxi, MS | Safety Zones (Parts 147 and 165) | 5/11/2007
COTP Morgan City-06-001 | Morgan City, LA | Safety Zones (Parts 147 and 165) | 1/24/2006
COTP Morgan City-06-006 | Morgan City, LA | Safety Zones (Parts 147 and 165) | 7/3/2006
COTP Morgan City-06-007 | Morgan City, LA | Safety Zones (Parts 147 and 165) | 10/12/2006
COTP Morgan City-07-007 | Morgan City, LA | Safety Zones (Parts 147 and 165) | 8/13/2007
COTP Morgan City-07-011 | Morgan City, LA | Safety Zones (Parts 147 and 165) | 9/26/2007
COTP Morgan City-07-016 | Morgan City, LA | Safety Zones (Parts 147 and 165) | 10/12/2007
COTP Morgan City-08-003 | Morgan City, LA | Safety Zones (Parts 147 and 165) | 3/13/2008
COTP New Orleans-05-055 | Angoa, LA | Safety Zones (Parts 147 and 165) | 8/8/2005
COTP New Orleans-05-056 | Plaquemine, LA | Safety Zones (Parts 147 and 165) | 8/10/2005
COTP New Orleans-05-057 | Jonesville, LA | Safety Zones (Parts 147 and 165) | 8/22/2005
COTP New Orleans-05-080 | Natchez, MS | Safety Zones (Parts 147 and 165) | 10/8/2005
COTP New Orleans-05-081 | Natchez, MS | Safety Zones (Parts 147 and 165) | 10/9/2005
COTP New Orleans-05-082 | Natchez, MS | Safety Zones (Parts 147 and 165) | 10/14/2005
COTP New Orleans-05-083 | Natchez, MS | Safety Zones (Parts 147 and 165) | 10/15/2005
COTP New Orleans-05-084 | New Orleans, LA | Safety Zones (Parts 147 and 165) | 10/10/2005
COTP New Orleans-05-085 | New Orleans, LA | Safety Zones (Parts 147 and 165) | 10/12/2005
COTP New Orleans-05-086 | New Orleans, LA | Safety Zones (Parts 147 and 165) | 10/14/2005
COTP New Orleans-05-087 | Pilottown, LA | Safety Zones (Parts 147 and 165) | 10/28/2005
COTP New Orleans-05-088 | Baton Rouge, LA | Safety Zones (Parts 147 and 165) | 11/5/2005
COTP New Orleans-05-089 | Lake Providence, LA | Safety Zones (Parts 147 and 165) | 10/23/2005
COTP New Orleans-05-090 | Angoa, LA | Safety Zones (Parts 147 and 165) | 10/31/2005
COTP New Orleans-05-091 | New Orleans, LA | Safety Zones (Parts 147 and 165) | 10/28/2005
COTP New Orleans-05-092 | New Orleans, LA | Safety Zones (Parts 147 and 165) | 11/22/2005
COTP New Orleans-05-094 | Shreveport-Bossier City, LA | Safety Zones (Parts 147 and 165) | 11/26/2005
COTP New Orleans-05-095 | Monroe, LA | Safety Zones (Parts 147 and 165) | 12/17/2005
COTP New Orleans-05-096 | New Orleans, LA | Safety Zones (Parts 147 and 165) | 11/25/2005
COTP New Orleans-05-097 | New Orleans, LA | Safety Zones (Parts 147 and 165) | 11/28/2005
COTP New Orleans-05-098 | New Orleans, LA | Safety Zones (Parts 147 and 165) | 11/30/2005
COTP New Orleans-05-099 | Baton Rouge, LA | Safety Zones (Parts 147 and 165) | 12/2/2005
COTP New Orleans-05-100 | New Orleans, LA | Safety Zones (Parts 147 and 165) | 12/1/2005
COTP New Orleans-05-104 | New Orleans, LA | Safety Zones (Parts 147 and 165) | 12/20/2005
COTP New Orleans-05-105 | New Orleans, LA | Safety Zones (Parts 147 and 165) | 12/22/2005
COTP New Orleans-06-001 | New Orleans, LA | Safety Zones (Parts 147 and 165) | 1/18/2006
COTP New Orleans-06-002 | St James, LA | Safety Zones (Parts 147 and 165) | 1/16/2006
COTP New Orleans-06-003 | New Orleans, LA | Safety Zones (Parts 147 and 165) | 2/27/2006
COTP New Orleans-06-004 | Pilottown, LA | Safety Zones (Parts 147 and 165) | 2/4/2006
COTP New Orleans-06-005 | New Orleans, LA | Safety Zones (Parts 147 and 165) | 3/4/2006
COTP New Orleans-06-006 | Chalmette, LA | Safety Zones (Parts 147 and 165) | 3/7/2006
COTP New Orleans-06-007 | New Orleans, LA | Security zones (Part 165) | 3/8/2006
COTP New Orleans-06-008 | Chalmette, LA | Safety Zones (Parts 147 and 165) | 3/10/2006
COTP New Orleans-06-009 | New Orleans, LA | Safety Zones (Parts 147 and 165) | 4/9/2006
COTP New Orleans-06-010 | Chalmette, LA | Safety Zones (Parts 147 and 165) | 3/14/2006
COTP New Orleans-06-012 | New Orleans, LA | Security zones (Part 165) | 4/27/2006
COTP New Orleans-06-013 | New Orleans, LA | Safety Zones (Parts 147 and 165) | 5/17/2006
COTP New Orleans-06-014 | New Orleans, LA | Safety Zones (Parts 147 and 165) | 7/3/2006
COTP New Orleans-06-015 | New Orleans, LA | Safety Zones (Parts 147 and 165) | 6/7/2006
COTP New Orleans-06-016 | Harvey, LA | Safety Zones (Parts 147 and 165) | 7/4/2006
COTP New Orleans-06-017 | New Orleans, LA | Safety Zones (Parts 147 and 165) | 7/4/2006
COTP New Orleans-06-018 | Baton Rouge, LA | Safety Zones (Parts 147 and 165) | 7/4/2006
COTP New Orleans-06-019 | Luling, LA | Safety Zones (Parts 147 and 165) | 7/3/2006
COTP New Orleans-06-020 | Donaldsonville, LA | Safety Zones (Parts 147 and 165) | 7/3/2006
COTP New Orleans-06-021 | Baton Rouge, LA | Safety Zones (Parts 147 and 165) | 7/4/2006
COTP New Orleans-06-033 | Longwood, LA | Safety Zones (Parts 147 and 165) | 9/2/2006
COTP New Orleans-06-034 | Convent, LA | Safety Zones (Parts 147 and 165) | 10/1/2006
COTP New Orleans-06-035 | New Orleans, LA | Safety Zones (Parts 147 and 165) | 10/4/2006
COTP New Orleans-06-037 | Algiers, LA | Safety Zones (Parts 147 and 165) | 10/16/2006
COTP New Orleans-06-038 | Donaldsonville, LA | Safety Zones (Parts 147 and 165) | 10/16/2006
COTP New Orleans-06-039 | Kenner, LA | Safety Zones (Parts 147 and 165) | 10/16/2006
COTP New Orleans-06-040 | New Orleans, LA | Safety Zones (Parts 147 and 165) | 11/8/2006
COTP New Orleans-06-042 | Port Allen, LA | Safety Zones (Parts 147 and 165) | 12/16/2006
COTP New Orleans-06-043 | Baton Rouge, LA | Safety Zones (Parts 147 and 165) | 12/1/2006
COTP New Orleans-06-045 | Metairie, LA | Safety Zones (Parts 147 and 165) | 12/31/2006
COTP New Orleans-06-046 | New Orleans, LA | Safety Zones (Parts 147 and 165) | 12/31/2006
COTP New Orleans-06-047 | Donaldsonville, LA | Safety Zones (Parts 147 and 165) | 12/31/2006
COTP Ohio Valley 06-033 | Cincinnati, OH | Safety Zones (Parts 147 and 165) | 7/8/2006
COTP Ohio Valley 06-038 | Louisville, KY | Safety Zones (Parts 147 and 165) | 7/4/2006
COTP Ohio Valley 06-047 | Huntington, WV | Safety Zones (Parts 147 and 165) | 8/13/2006
COTP Ohio Valley 06-050 | Huntsville, AL | Safety Zones (Parts 147 and 165) | 8/31/2006
COTP Ohio Valley 06-053 | Louisville, KY | Safety Zones (Parts 147 and 165) | 10/21/2006
COTP Ohio Valley 07-007 | Louisville, KY | Security zones (Part 165) | 3/2/2007
COTP Ohio Valley 07-042 | Clarksville, TN | Safety Zones (Parts 147 and 165) | 9/8/2007
COTP Ohio Valley-06-029 | Cape Girardeau, MO | Safety Zones (Parts 147 and 165) | 7/4/2006
COTP Ohio Valley-06-035 | Kingston, TN | Safety Zones (Parts 147 and 165) | 7/2/2006
COTP Ohio Valley-06-037 | Louisville, KY | Safety Zones (Parts 147 and 165) | 7/3/2006
COTP Ohio Valley-06-039 | Cincinnati, OH | Safety Zones (Parts 147 and 165) | 7/8/2006
COTP Ohio Valley-06-046 | Richmond, OH | Safety Zones (Parts 147 and 165) | 8/20/2006
COTP Ohio Valley-06-048 | Cincinnati, OH | Security zones (Part 165) | 9/22/2006
COTP Ohio Valley-06-049 | Florence, AL | Safety Zones (Parts 147 and 165) | 8/3/2006
COTP Ohio Valley-06-051 | Cincinnati, OH | Safety Zones (Parts 147 and 165) | 10/3/2006
COTP Ohio Valley-06-052 | Charleston, WV | Safety Zones (Parts 147 and 165) | 10/7/2006
COTP Ohio Valley-06-054 | Kingston, TN | Safety Zones (Parts 147 and 165) | 11/14/2006
COTP Ohio Valley-06-055 | Parkersburg, WV | Safety Zones (Parts 147 and 165) | 11/4/2006
COTP Ohio Valley-07-009 | Louisville, KY | Safety Zones (Parts 147 and 165) | 4/19/2007
COTP Ohio Valley-07-012 | Pickwick Dam, TN | Safety Zones (Parts 147 and 165) | 5/5/2007
COTP Port Arthur-016-06 | Lake Charles, LA | Safety Zones (Parts 147 and 165) | 6/21/2006
COTP Port Arthur-06-012 | Sweet Lake, LA | Safety Zones (Parts 147 and 165) | 12/4/2006
COTP Port Arthur-06-018 | Orange, TX | Safety Zones (Parts 147 and 165) | 7/8/2006
COTP Port Arthur-06-020 | Port Arthur, TX | Safety Zones (Parts 147 and 165) | 8/11/2006
COTP Port Arthur-06-022 | Port Arthur, TX | Safety Zones (Parts 147 and 165) | 9/11/2006
COTP Port Arthur-06-023 | Orange, TX | Safety Zones (Parts 147 and 165) | 10/8/2006
COTP Port Arthur-06-024 | Port Arthur, TX | Safety Zones (Parts 147 and 165) | 10/22/2006
COTP Port Arthur-06-025 | Port Arthur, TX | Safety Zones (Parts 147 and 165) | 11/5/2006
COTP Port Arthur-06-026 | Port Arthur, TX | Safety Zones (Parts 147 and 165) | 11/15/2006
COTP Port Arthur-06-027 | Port Arthur, TX | Safety Zones (Parts 147 and 165) | 11/24/2006
COTP Port Arthur-06-028 | Port Arthur, TX | Safety Zones (Parts 147 and 165) | 11/19/2006
COTP Port Arthur-06-029 | Orange, TX | Safety Zones (Parts 147 and 165) | 12/5/2006
COTP Port Arthur-06-030 | Port Arthur, TX | Safety Zones (Parts 147 and 165) | 12/3/2006
COTP Port Arthur-06-031 | Port Arthur, TX | Safety Zones (Parts 147 and 165) | 12/10/2006
COTP Port Arthur-06-032 | Orange, TX | Safety Zones (Parts 147 and 165) | 12/21/2006
COTP Port Arthur-15-006 | Orange, TX | Safety Zones (Parts 147 and 165) | 6/25/2006
COTP Port Arthur-19-006 | Orange, TX | Safety Zones (Parts 147 and 165) | 7/20/2006
COTP Prince William Sound 07-001 | Valdez, AK | Safety Zones (Parts 147 and 165) | 4/29/2007
COTP San Diego 05-030 | Lake Havasu, AZ | Safety Zones (Parts 147 and 165) | 3/26/2005
COTP San Diego 05-053 | San Diego, CA | Safety Zones (Parts 147 and 165) | 10/11/2005
COTP San Diego 05-061 | San Diego, CA | Safety Zones (Parts 147 and 165) | 7/15/2005
COTP San Diego 05-080 | San Diego, CA | Safety Zones (Parts 147 and 165) | 12/11/2005
COTP San Diego 05-091 | San Diego, CA | Safety Zones (Parts 147 and 165) | 7/24/2005
COTP San Diego 05-093 | San Diego, CA | Safety Zones (Parts 147 and 165) | 8/2/2005
COTP San Diego 05-097 | San Diego, CA | Safety Zones (Parts 147 and 165) | 8/18/2005
COTP San Diego 05-100 | San Diego, CA | Safety Zones (Parts 147 and 165) | 10/1/2005
COTP San Diego 05-102 | San Diego, CA | Safety Zones (Parts 147 and 165) | 11/13/2005
COTP San Diego 07-004 | San Diego, CA | Security zones (Part 165) | 6/18/2007
COTP San Diego 07-005 | San Diego, CA | Safety Zones (Parts 147 and 165) | 7/7/2007
COTP San Diego 07-043 | San Diego, CA | Safety Zones (Parts 147 and 165) | 7/4/2007
COTP San Diego 07-052 | Mission Bay, CA | Safety Zones (Parts 147 and 165) | 12/31/2007
COTP San Diego 07-069 | San Diego Bay, CA | Special Local Regulation (Parts 100) | 7/4/2007
COTP San Diego 07-074 | San Diego Bay, CA | Safety Zones (Parts 147 and 165) | 5/15/2007
COTP San Diego 07-152 | San Diego Bay, CA | Safety Zones (Parts 147 and 165) | 7/3/2007
COTP San Diego 07-251 | San Diego Bay, CA | Safety Zones (Parts 147 and 165) | 6/30/2007
COTP San Diego 07-252 | San Diego Bay, CA | Safety Zones (Parts 147 and 165) | 7/4/2007
COTP San Diego 07-352 | San Diego Bay, CA | Safety Zones (Parts 147 and 165) | 7/4/2007
COTP San Diego 07-452 | Ocean Beach, CA | Safety Zones (Parts 147 and 165) | 7/4/2007
COTP San Diego 07-552 | Ocean Beach, CA | Safety Zones (Parts 147 and 165) | 7/4/2007
COTP St. Petersburg 06-081 | Tampa Bay, FL | Safety Zones (Parts 147 and 165) | 4/25/2006
COTP St. Petersburg 06-105 | Tampa Bay, FL | Safety Zones (Parts 147 and 165) | 5/28/2006
COTP St. Petersburg 06-124 | Ft. Myers, FL | Safety Zones (Parts 147 and 165) | 7/4/2006
COTP St. Petersburg 06-137 | Marco Island, FL | Safety Zones (Parts 147 and 165) | 7/4/2006
COTP St. Petersburg 06-138 | Venice Inlet, FL | Safety Zones (Parts 147 and 165) | 7/4/2006
COTP St. Petersburg 06-139 | Bradenton Beach, FL | Safety Zones (Parts 147 and 165) | 7/3/2006
COTP St. Petersburg 06-170 | San Carlos Bay, FL | Safety Zones (Parts 147 and 165) | 8/5/2006
COTP St. Petersburg 06-255 | Tampa Bay, FL | Safety Zones (Parts 147 and 165) | 11/23/2006

[FR Doc. E9-30492 Filed 12-22-09; 8:45 am]

BILLING CODE 4910-15-P